JUDICIAL CONFERENCE OF THE UNITED STATES

Committee on Rules of Practice and Procedure; Meeting of the Judicial Conference

AGENCY: Judicial Conference of the United States.

ACTION: Committee on Rules of Practice and Procedure; revised notice of open meeting.

SUMMARY: The Committee on Rules of Practice and Procedure will hold a virtual meeting on June 22, 2021 rather than meeting in person. The meeting is open to the public. When a meeting is held virtually, members of the public may join by telephone or video conference to observe but not participate. An agenda and supporting materials will be posted at least 7 days in advance of the meeting at: http://www.uscourts.gov/rules-policies/records-and-archives-rules-committees/agenda-books. The announcement for this meeting was previously published in the Federal Register on January 26, 2021.

DATES: June 22, 2021, 10 a.m.-5 p.m. (Eastern).

FOR FURTHER INFORMATION CONTACT: Julie Wilson, Esq., Acting Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

(Authority: 28 U.S.C. 2073.)

Dated: March 23, 2021.
Shelly L. Cox,
Management Analyst, Rules Committee Staff.

[FR Doc. 2021-06339 Filed 3-26-21; 8:45 am]

BILLING CODE 2210-55-P